DEPARTMENT OF COMMERCE

International Trade Administration

Agency Information Collection Activities; Submission to the Office of Management and Budget (OMB) for Review and Approval; Comment Request; Request for Duty-Free Entry of Scientific Instrument or Apparatus; Resubmission

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 17, 2023 during a 60-day comment period. This resubmission notice allows for an additional 30 days for public comments.

Agency: Enforcement & Compliance, International Trade Administration.

Title: Review and Approval; Comment Request; Request for Duty-Free Entry of Scientific Instrument or Apparatus.

OMB Control Number: 0625-0037.

Form Number(s): ITA-338P.

Type of Request: Regular Submission current information collection.

Number of Respondents: 65.

Average Hours per Response: 2 hours.

Burden Hours: 130.

Needs and Uses: The collected information is necessary in order to assess a respondent's eligibility to enter equipment duty free, consistent with 19 U.S.C. 1202 and 15 CFR 301.

Affected Public: State or local government; Federal agencies; not for-profit institutions.

Frequency: Every time respondent seeks to import qualifying equipment duty free.

Respondent's Obligation: Mandatory.

Legal Authority: 19 U.S.C. 1202; 15 CFR 301.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0037.

Sheleen Dumas,
Department PRA Clearance Officer, Office of the Under Secretary for Economic Affairs, Commerce Department.

[FR Doc. 2023-12670 Filed 6-13-23; 8:45 am]

BILLING CODE 3510-DS-P